DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 62475-77, dated October 07, 2002) is amended to reorganize the Office of Analysis, Epidemiology and Health Promotion, NCHS.

Section C-B, Organization and Functions, is hereby amended as follows:

Delete the title and functional statements for the Data Monitoring and Analysis Branch (CS462) and the title and functional statement for the State and Local Support Branch (CS463) in their entirety.

Dated: December 13, 2002.
Julie Louise Gerberding,
Director.

[FR Doc. 02-32340 Filed 12-23-02; 8:45 am]

BILLING CODE 4160-18-M